ENVIRONMENTAL PROTECTION AGENCY

40 CFR Part 55

[EPA-R04-OAR-2008-0681; FRL-8737-2]

Outer Continental Shelf Air Regulations Consistency Update for North Carolina

AGENCY: Environmental Protection Agency (EPA).

ACTION: Proposed rule-consistency update.

SUMMARY: EPA is proposing to update a portion of the Outer Continental Shelf (OCS) Air Regulations. Requirements applying to OCS sources located within 25 miles of states' seaward boundaries must be updated periodically to remain consistent with the requirements of the corresponding onshore area (COA), as mandated by section 328(a)(1) of the Clean Air Act (“CAA” or “the Act”). The portion of the OCS air regulations that is being updated pertains to the requirements for OCS sources for which the State of North Carolina will be the designated COA. The effect of approving the OCS requirements for the State of North Carolina is to regulate emissions from OCS sources in accordance with the requirements onshore. The change to the existing requirements discussed below is proposed to be incorporated by reference into the Code of Federal Regulations (CFR) and is listed in the appendix to the OCS air regulations. This proposed action is an annual update of North Carolina's OCS Air Regulations. These rules include revisions to existing rules that already apply to OCS sources.

DATES: Comments must be received on or before December 5, 2008.

ADDRESSES: Submit your comments, identified by Docket ID No. EPA-R04-OAR-2008-0681, by one of the following methods:

1. http://www.regulations.gov: Follow the on-line instructions for submitting comments.

2. E-mail: lakeman.sean@epa.gov.

3. Fax: (404) 562-9019.

4. Mail: “(EPA-R04-OAR-2008-0681),” Air Permit Section, Air Planning Branch, Air, Pesticides and Toxics Management Division, U.S. Environmental Protection Agency, Region 4, 61 Forsyth Street, SW., Atlanta, Georgia 30303-8960.

5. Hand Delivery or Courier: Sean Lakeman, Air Permit Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to Docket ID No. “(EPA-R04-OAR-2008-0681).” EPA's policy is that all comments received will be included in the public docket without change and may be made available online at www.regulations.gov, including any personal information provided, unless the comment includes information claimed to be Confidential Business Information (CBI) or other information whose disclosure is restricted by statute. Do not submit through www.regulations.gov or e-mail, information that you consider to be CBI or otherwise protected. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Air Permit Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Sean Lakeman, Air Permit Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

SUPPLEMENTARY INFORMATION: Throughout this document whenever “we,” “us,” or “our” is used, we mean EPA. The following outline is provided to aid in locating information in this preamble.

>

I. Background and Purpose

II. EPA's Evaluation

III. Proposed Action

IV. Statutory and Executive Order Reviews

I. Background and Purpose

On September 4, 1992, EPA promulgated 40 CFR part 55,¹ which established requirements to control air pollution from OCS sources in order to attain and maintain federal and state ambient air quality standards and to comply with the provisions of part C of title I of the Act. Part 55 applies to all OCS sources offshore of the states except those located in the Gulf of Mexico west of 87.5 degrees longitude. Section 328 of the Act requires that for such sources located within 25 miles of a state's seaward boundary, the requirements shall be the same as would be applicable if the sources were located in the COA. Because the OCS requirements are based on onshore requirements, and onshore requirements may change, section 328(a)(1) of the Act requires that EPA update the OCS requirements as necessary to maintain consistency with onshore requirements.

¹ For further information see the Notice of Proposed Rulemaking, December 5, 1991 (56 FR 63774), and the preamble to the final rule promulgated September 4, 1992 (57 FR 40792).

Pursuant to 40 CFR 55.12 of the OCS rule, “consistency reviews will occur at least annually. In addition, in accordance with paragraphs (c) and (d) of this section, consistency reviews will occur upon receipt of an NOI (notice of intent) and when a State or local agency submits a rule to EPA to be considered for incorporation by reference in this part 55.” This proposed action is an annual update of North Carolina's OCS Air Regulations, which are incorporated by reference into 40 CFR part 55, Appendix A.

Section 328(a) of the Act requires that EPA establish requirements to control air pollution from OCS sources located within 25 miles of states' seaward boundaries that are the same as onshore requirements. To comply with this statutory mandate, EPA must incorporate applicable onshore rules into part 55 as they exist onshore. This process is distinct from the State Implementation Plan (SIP) process and incorporation of a rule into part 55 as part of the OCS consistency update process does not ensure such a rule would be appropriate for inclusion into the SIP. EPA's review of North Carolina's rules for OCS consistency update purposes is described below.

II. EPA's Evaluation

In updating 40 CFR part 55, Appendix A, EPA reviewed North Carolina's rules for inclusion into part 55 to ensure that they are (1) rationally related to the attainment or maintenance of federal or state ambient air quality standards and part C of title I of the Act; (2) not designed expressly to prevent exploration and development of the OCS; and (3) applicable to OCS sources. 40 CFR 55.1. EPA has also evaluated the rules to ensure they are not arbitrary or capricious. 40 CFR 55.12(e). In addition, EPA has excluded administrative or procedural rules,² and requirements that regulate toxics which are not related to the attainment and maintenance of federal and state ambient air quality standards.

² Each COA which has been delegated the authority to implement and enforce part 55, will use its administrative and procedural rules as it does with onshore sources. However, in those instances where EPA has not delegated authority to implement and enforce part 55, EPA will use its own administrative and procedural requirements to implement the substantive requirements. See 40 CFR 55.14(c)(4).

EPA is soliciting public comments on the proposal to update 40 CFR part 55, Appendix A to include recent changes to North Carolina's onshore rules that affect OCS sources. Any comments will be considered before taking final action. Interested parties may participate in the Federal rulemaking procedure by submitting comments to the EPA Region 4 Office listed in the ADDRESSES section of this Federal Register.

III. Proposed Action

EPA is proposing an annual update of North Carolina's OCS Air Regulations. These rules include revisions to existing rules that already apply to OCS sources. The rules that EPA is proposing to incorporate are applicable provisions of Chapter 15A of the North Carolina Administrative Code, listed in detail at the end of this document.

IV. Statutory and Executive Order Reviews

A. Executive Order 12866: Regulatory Planning and Review

Under Executive Order 12866 (58 FR 51735 (October 4, 1993)), the Agency must determine whether the regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or state, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This action is not a “significant regulatory action” under the terms of Executive Order 12866 and is therefore not subject to OMB Review. These rules implement requirements specifically and explicitly set forth by the Congress in section 328 of the CAA, without the exercise of any policy discretion by EPA. These OCS rules already apply in the COA, and EPA has no evidence to suggest that these OCS rules have created an adverse material effect. As required by section 328 of the CAA, this action simply updates the existing OCS requirements to make them consistent with rules in the COA.

B. Paperwork Reduction Act

The OMB has approved the information collection requirements contained in 40 CFR part 55, and by extension this update to the rules, under the provisions of the Paperwork Reduction Act, 44 U.S.C. 3501 et seq., and has assigned OMB control number 2060-0249. Notice of OMB's approval of EPA Information Collection Request (ICR) No. 1601.06 was published in the Federal Register on March 1, 2006 (71 FR 10499). The approval expires January 31, 2009. As EPA previously indicated (70 FR 65897 (November 1, 2005)), the annual public reporting and recordkeeping burden for collection of information under 40 CFR part 55 is estimated to average 549 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable.

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

These rules will not have a significant economic impact on a substantial number of small entities. These rules implement requirements specifically and explicitly set forth by the Congress in section 328 of the CAA, without the exercise of any policy discretion by EPA. These OCS rules already apply in the COA, and EPA has no evidence to suggest that these OCS rules have had a significant economic impact on a substantial number of small entities. As required by section 328 of the CAA, this action simply updates the existing OCS requirements to make them consistent with rules in the COA. Therefore, this action will not have a significant economic impact on a substantial number of small entities.

D. Unfunded Mandates Reform Act

Title II of the Unfunded Mandates Reform Act of 1995 (UMRA), Public Law 104-4, establishes requirements for Federal agencies to assess the effects of their regulatory actions on state, local, and tribal governments and the private sector. Under section 202 of the UMRA, EPA generally must prepare a written statement, including a cost-benefit analysis, for proposed and final rules with “Federal mandates” that may result in expenditures to state, local, and tribal governments, in the aggregate, or to the private sector, of $100 million or more in any one year.

Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation of why that alternative was not adopted.

Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

This document contains no Federal mandates (under the regulatory provisions of Title II of the UMRA) for state, local, or tribal governments or the private sector that may result in expenditures of $100 million or more for state, local, or tribal governments, in the aggregate, or to the private sector in any one year. This action would implement requirements specifically and explicitly set forth by the Congress in section 328 of the CAA, without the exercise of any policy discretion by EPA. The OCS rules already apply in the COA, and EPA has no evidence to suggest that applying them in the OCS would result in expenditures to state, local, and tribal governments, in the aggregate, or to the private sector, of $100 million or more in any one year. As required by section 328 of the CAA, this action simply updates the existing OCS requirements to make them consistent with rules in the COA.

E. Executive Order 13132, Federalism

Executive Order 13132, entitled “Federalism” (64 FR 43255 (August 10, 1999)), requires EPA to develop an accountable process to ensure “meaningful and timely input by state and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the states, on the relationship between the national government and the states, or on the distribution of power and responsibilities among the various levels of government, as specified in Executive Order 13132. These rules implement requirements specifically and explicitly set forth by the Congress in section 328 of the CAA, without the exercise of any policy discretion by EPA. As required by section 328 of the CAA, this rule simply updates the existing OCS rules to make them consistent with current COA requirements. These rules do not amend the existing provisions within 40 CFR part 55 enabling delegation of OCS regulations to a COA, and this rule does not require the COA to implement the OCS rules. Thus, Executive Order 13132 does not apply to this rule.

In the spirit of Executive Order 13132, and consistent with EPA policy to promote communications between EPA and state and local governments, EPA specifically solicits comments on this proposed rule from state and local officials.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This rule does not have a substantial direct effect on one or more Indian tribes, on the relationship between the Federal Government and Indian tribes or on the distribution of power and responsibilities between the Federal Government and Indian tribes and thus does not have “tribal implications,” within the meaning of Executive Order 13175. This rule implements requirements specifically and explicitly set forth by the Congress in section 328 of the CAA, without the exercise of any policy discretion by EPA. As required by section 328 of the CAA, this rule simply updates the existing OCS rules to make them consistent with current COA requirements. In addition, this rule does not impose substantial direct compliance costs on tribal governments, nor preempt tribal law. Consultation with Indian tribes is therefore not required under Executive Order 13175. Nonetheless, in the spirit of Executive Order 13175 and consistent with EPA policy to promote communications between EPA and tribes, EPA specifically solicits comments on this proposed rule from tribal officials.

G. Executive Order 13045, Protection of Children From Environmental Health Risks and Safety Risks

Executive Order 13045: “Protection of Children from Environmental Health Risks and Safety Risks” (62 FR 19885 (April 23, 1997)), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This proposed rule is not subject to Executive Order 13045 because it is not economically significant as defined in Executive Order 12866. In addition, the Agency does not have reason to believe the environmental health or safety risks addressed by this action present a disproportional risk to children.

H. Executive Order 13211, Actions That Significantly Affect Energy Supply, Distribution, or Use

This proposed rule is not subject to Executive Order 13211, “Actions Concerning Regulations That Significantly Affect Energy Supply, Distribution, or Use” (66 FR 28355, May 22, 2001) because it is not a significant regulatory action under Executive Order 12866.

I. National Technology Transfer and Advancement Act

Section 12(d) of the National Technology Transfer and Advancement Act of 1995 (NTTAA), Public Law 104-113, section 12(d) (15 U.S.C. 272 note) directs EPA to use voluntary consensus standards in its regulatory activities unless to do so would be inconsistent with applicable laws or otherwise impractical. Voluntary consensus standards are technical standards (e.g., materials specifications, test methods, sampling procedures, and business practices) that are developed or adopted by voluntary consensus standards bodies. The NTTAA directs EPA to provide Congress, through OMB, explanations when the Agency decided not to use available and applicable voluntary consensus standards.

As discussed above, these rules implement requirements specifically and explicitly set forth by the Congress in section 328 of the CAA, without the exercise of any policy discretion by EPA. As required by section 328 of the CAA, this rule simply updates the existing OCS rules to make them consistent with current COA requirements. In the absence of a prior existing requirement for the state to use voluntary consensus standards and in light of the fact that EPA is required to make the OCS rules consistent with current COA requirements, it would be inconsistent with applicable law for EPA to use voluntary consensus standards in this action. Therefore, EPA is not considering the use of any voluntary consensus standards. EPA welcomes comments on this aspect of the proposed rulemaking and, specifically, invites the public to identify potentially-applicable voluntary consensus standards and to explain why such standards should be used in this regulation.

J. Executive Order 12898: Federal Actions To Address Environmental Justice in Minority Populations and Low-Income Populations

Executive Order 12898 (59 FR 7629 (February 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States. EPA lacks the discretionary authority to address environmental justice in this proposed action. This rule implements requirements specifically and explicitly set forth by the Congress in section 328 of the CAA, without the exercise of any policy discretion by EPA. As required by section 328 of the CAA, this rule simply updates the existing OCS rules to make them consistent with current COA requirements.

Although EPA lacks authority to modify today's regulatory decision on the basis of environmental justice considerations, EPA nevertheless explored this issue and found the following. This action, namely, updating the OCS rules to make them consistent with current COA requirements, will not have disproportionately high and adverse human health or environmental effects on minority or low-income populations because it increases the level of environmental protection for all affected populations without having any disproportionately high and adverse human health or environmental effects on any population, including any minority or low-income population. Environmental justice considerations may be appropriate to consider in the context of a specific OCS permit application.

List of Subjects in 40 CFR Part 55

Environmental protection, Administrative practice and procedure, Air pollution control, Continental Shelf, Incorporation by reference, Intergovernmental relations, Nitrogen dioxide, Ozone, Particulate matter, Reporting and recordkeeping requirements, Sulfur oxides.

Dated: October 24, 2008.
Russell L. Wright, Jr.,
Acting Regional Administrator, Region 4.

For the reasons stated in the preamble, title 40 of the Code of Federal Regulations is proposed to be amended as follows:

PART 55—[AMENDED]

1. The authority citation for part 55 continues to read as follows:

Authority: Section 328 of the Act (42 U.S.C. 7401, et seq.) as amended by Public Law 101-549.

2. Section 55.14 is amended by revising paragraph (e)(17)(i)(A) to read as follows:

§ 55.14 Requirements that apply to OCS sources located within 25 miles of States' seaward boundaries, by State.

* * * * *

(e) * * *

(17) * * *

(i) * * *

(A) State of North Carolina Air Pollution Control Requirements Applicable to OCS Sources, January 2, 2008.

* * * * *

3. Appendix A to part 55 is amended by revising paragraph (a)(1) under the heading “North Carolina” to read as follows:

Appendix A to Part 55—Listing of State and Local Requirements Incorporated by Reference Into Part 55, By State

* * * * *

North Carolina

(a) State requirements.

(1) The following requirements are contained in State of North Carolina Air Pollution Control Requirements Applicable to OCS Sources, January 2, 2008: The following sections of subchapter 2D, 2H and 2Q.

15A NCAC SUBCHAPTER 2D—AIR POLLUTION CONTROL REQUIREMENTS

SECTION .0100—DEFINITIONS AND REFERENCES

2D.0101 Definitions (Effective 12/01/2005)

2D.0104 Incorporation by reference (Effective 07/01/1998)

SECTION .0200—AIR POLLUTION SOURCES

2D.0201 Classification of air pollution sources (Effective 07/01/1984)

2D.0202 Registration of air pollution sources (Effective 07/01/1998)

SECTION .0300—AIR POLLUTION EMERGENCIES

2D.0301 Purpose (Effective 02/01/1976)

2D.0302 Episode criteria (Effective 07/01/1998)

2D.0303 Emission reduction plans (Effective 07/01/1984)

2D.0304 Preplanned abatement program (Effective 07/01/1998)

2D.0305 Emission reduction plan: Alert Level (Effective 07/01/1984)

2D.0306 Emission reduction plan: Warning Level (Effective 07/01/1984)

2D.0307 Emission reduction plan: Emergency Level (Effective 07/01/1984)

SECTION .0400—AMBIENT AIR QUALITY STANDARDS

2D.0401 Purpose (Effective 12/01/1992)

2D.0402 Sulfur oxides (Effective 07/01/1984)

2D.0403 Total suspended particulates (Effective 07/01/1988)

2D.0404 Carbon monoxide (Effective 10/01/1989)

2D.0405 Ozone (Effective 04/01/1999)

2D.0407 Nitrogen dioxide (Effective 10/01/1989)

2D.0408 Lead (Effective 07/01/1984)

2D.0409 PM10 particulate matter (Effective 04/01/1999)

2D.0410 PM2.5 particulate matter (Effective 04/01/1999)

SECTION .0500—EMISSION CONTROL STANDARDS

2D.0501 Compliance with emission control standards (Effective 06/01/2008)

2D.0502 Purpose (Effective 06/01/1981)

2D.0503 Particulates from fuel burning indirect heat exchangers (Effective 04/01/1999)

2D.0504 Particulates from wood burning indirect heat exchangers (Effective 08/01/2002)

2D.0506 Particulates from hot mix asphalt plants (Effective 08/01/2004)

2D.0507 Particulates from chemical fertilizer manufacturing plants (Effective 04/01/2003)

2D.0508 Particulates from pulp and paper mills (Effective 07/10/1998)

2D.0509 Particulates from MICA or FELDSPAR processing plants (Effective 04/01/2003)

2D.0510 Particulates from sand, gravel, or crushed stone operations (Effective 07/01/1998)

2D.0511 Particulates from lightweight aggregate processes (Effective 07/01/1998)

2D.0512 Particulates from wood products finishing plants (Effective 01/01/1985)

2D.0513 Particulates from portland cement plants (Effective 07/01/1998)

2D.0514 Particulates from ferrous jobbing foundries (Effective 07/01/1998)

2D.0515 Particulates from miscellaneous industrial processes (Effective 04/01/2003)

2D.0516 Sulfur dioxide emissions from combustion sources (Effective 07/01/2007)

2D.0517 Emissions from plants producing sulfuric acid (Effective 01/01/1985)

2D.0519 Control of nitrogen dioxide and nitrogen oxides emissions (Effective 07/01/2007)

2D.0521 Control of visible emissions (Effective 07/01/2007)

2D.0524 New Source Performance Standards (Effective 07/01/2007)

2D.0527 Emissions from spodumene ore roasting (Effective 01/01/1985)

2D.0528 Total reduced sulfur from kraft pulp mills (Effective 07/01/1988)

2D.0529 Fluoride emissions from primary aluminum reduction plants (Effective 06/01/2008)

2D.0530 Prevention of significant deterioration (Effective 05/01/2008)

2D.0531 Sources in nonattainment areas (Effective 05/01/2008)

2D.0532 Sources contributing to an ambient violation (Effective (07/01/1994)

2D.0533 Stack height (Effective 07/01/1994)

2D.0534 Fluoride emissions from phosphate fertilizer industry (Effective 11/01/1982)

2D.0535 Excess emissions reporting and malfunctions (Effective 06/01/2008)

2D.0536 Particulate emissions from electric utility boilers (Effective 06/10/2008)

2D.0537 Control of mercury emissions (Effective 07/01/1996)

2D.0538 Control of ethylene oxide emissions (Effective 06/01/2004)

2D.0539 Odor control of feed ingredient manufacturing plants (Effective 04/01/2001)

2D.0540 Particulates from fugitive dust emission sources (Effective 08/01/2007)

2D.0541 Control of emissions from abrasive blasting (Effective 07/01/2000)

2D.0542 Control of particulate emissions from cotton ginning operations (Effective 06/01/2008)

2D.0543 Best Available Retrofit Technology (Effective 05/01/2007)

SECTION .0600—MONITORING: RECORDKEEPING: REPORTING

2D.0601 Purpose and scope (Effective 04/01/1999)

2D.0602 Definitions (Effective 04/01/1999)

2D.0604 Exceptions to monitoring and reporting requirements (Effective 04/01/1999)

2D.0605 General recordkeeping and reporting requirements (Effective 01/01/2007)

2D.0606 Sources covered by appendix P of 40 CFR part 51 (Effective 06/01/2008)

2D.0607 Large wood and wood-fossil fuel combination units (Effective 07/01/1999)

2D.0608 Other large coal or residual oil burners (Effective 06/01/2008)

2D.0610 Federal monitoring requirements (Effective 04/01/1999)

2D.0611 Monitoring emissions from other sources (Effective 04/01/1999)

2D.0612 Alternative monitoring and reporting procedures (Effective 04/01/1999)

2D.0613 Quality assurance program (Effective 04/01/1999)

2D.0614 Compliance assurance monitoring (Effective 04/01/1999)

2D.0615 Delegation (Effective 04/01/1999)

SECTION .0800—COMPLEX SOURCES

2D.0801 Purpose and scope (Effective 02/01/2005)

2D.0802 Definitions (07/01/1994)

2D.0804 Airport facilities (Effective 07/01/1996)

2D.0805 Parking facilities (Effective 07/01/1996)

2D.0806 Ambient monitoring and modeling analysis (Effective 07/01/1994)

SECTION .0900—VOLATILE ORGANIC COMPOUNDS

2D.0901 Definitions (Effective 06/01/2008)

2D.0902 Applicability (Effective 07/01/2007)

2D.0903 Recordkeeping: reporting: monitoring (Effective 04/01/1999)

2D.0906 Circumvention (Effective 01/01/1985)

2D.0909 Compliance schedules for sources in nonattainment areas (Effective 07/01/2007)

2D.0912 General provisions on test methods and procedures (Effective 06/01/2008)

2D.0917 Automobile and light-duty truck manufacturing (Effective 07/01/1996)

2D.0918 Can coating (Effective 07/01/1996)

2D.0919 Coil coating (Effective 07/01/1996)

2D.0920 Paper coating (Effective 07/01/1996)

2D.0921 Fabric and vinyl coating (Effective 07/01/1996)

2D.0922 Metal furniture coating (Effective 07/01/1996)

2D.0923 Surface coating of large appliances (Effective 07/01/1996)

2D.0924 Magnet wire coating (Effective 07/01/1996)

2D.0925 Petroleum liquid storage in fixed roof tanks (03/01/1991)

2D.0926 Bulk gasoline plants (Effective 07/01/1996)

2D.0927 Bulk gasoline terminals (Effective 01/01/2007)

2D.0928 Gasoline service stations stage I (Effective 07/01/1996)

2D.0930 Solvent metal cleaning (Effective 03/01/1991)

2D.0931 Cutback asphalt (Effective 12/01/1989)

2D.0932 Gasoline truck tanks and vapor collection systems (Effective 08/01/2008)

2D.0933 Petroleum liquid storage in external floating roof tanks (Effective 06/01/2004)

2D.0934 Coating of miscellaneous metal parts and products (Effective 07/01/1996)

2D.0935 Factory surface coating of flat wood paneling (Effective 07/01/1996)

2D.0936 Graphic arts (Effective 12/01/1993)

2D.0937 Manufacture of pneumatic rubber tires (Effective 07/01/1996)

2D.0943 Synthetic organic chemical and polymer manufacturing (Effective 06/01/2008)

2D.0944 Manufacture of polyethylene: polypropylene and polystyrene (Effective 05/01/1985)

2D.0945 Petroleum dry cleaning (Effective 06/01/2008)

2D.0947 Manufacture of synthesized pharmaceutical products (Effective 07/01/1994)

2D.0948 VOC emissions from transfer operations (Effective 07/01/2000)

2D.0949 Storage of miscellaneous volatile organic compounds (Effective 07/01/2000)

2D.0951 Miscellaneous volatile organic compound emissions (Effective 07/01/2000)

2D.0952 Petition for alternative controls for RACT (Effective 04/01/2003)

2D.0953 Vapor return piping for stage II vapor recovery (Effective 07/01/1998)

2D.0954 Stage II vapor recovery (Effective 04/01/2003)

2D.0955 Thread bonding manufacturing (Effective 05/01/1995)

2D.0956 Glass christmas ornament manufacturing (Effective 05/01/1995)

2D.0957 Commercial bakeries (Effective 05/01/1995)

2D.0958 Work practices for sources of volatile organic compounds (Effective 07/01/2000)

2D.0959 Petition for superior alternative controls (Effective 04/01/2003)

2D.0960 Certification of leak tightness tester (Effective 07/01/2007)

SECTION .1100—CONTROL OF TOXIC AIR POLLUTANTS

2D.1101 Purpose (Effective 05/01/1990)

2D.1102 Applicability (Effective 07/01/1998)

2D.1103 Definition (Effective 04/01/2001)

2D.1104 Toxic air pollutant guidelines (Effective 06/01/2008)

2D.1105 Facility reporting, recordkeeping (Effective 04/01/1999)

2D.1106 Determination of ambient air concentration (Effective 07/01/1998)

2D.1107 Multiple facilities (Effective 07/01/1998)

2D.1108 Multiple pollutants (Effective 05/01/1990)

2D.1109 112(j) case-by-case maximum achievable control technology (Effective 02/01/2004)

2D.1110 National Emission Standards for Hazardous Air Pollutants (Effective 06/01/2008)

2D.1111 Maximum Achievable Control Technology (Effective 01/01/2007)

2D.1112 112(g) case-by-case maximum achievable control technology (Effective 07/01/1998)

SECTION .1200—CONTROL OF EMISSIONS FROM INCINERATORS

2D.1201 Purpose and scope (Effective 07/01/2007)

2D.1202 Definitions (Effective 07/01/2007)

2D.1203 Hazardous waste incinerators (Effective 06/01/2008)

2D.1204 Sewage sludge and sludge incinerators (Effective 06/01/2008)

2D.1205 Municipal waste combustors (Effective 04/01/2004)

2D.1206 Hospital, medical, and infectious waste incinerators (Effective 06/01/2008)

2D.1207 Conical incinerators (Effective 07/01/2000)

2D.1208 Other incinerators (Effective 08/01/2008)

2D.1210 Commercial and industrial solid waste incineration units (Effective 06/01/2008)

2D.1211 Other solid waste incineration units (Effective 07/01/2007)

SECTION .1300—OXYGENATED GASOLINE STANDARD

2D.1301 Purpose (Effective 09/01/1996)

2D.1302 Applicability (Effective 09/01/1996)

2D.1303 Definitions (Effective 09/01/1992)

2D.1304 Oxygen content standard (Effective 09/01/1996)

2D.1305 Measurement and enforcement (Effective 07/01/1998)

SECTION .1400—NITROGEN OXIDES

2D.1401 Definitions (Effective 07/18/2002)

2D.1402 Applicability (Effective 06/01/2008)

2D.1403 Compliance schedules (Effective 07/01/2007)

2D.1404 Recordkeeping: Reporting: Monitoring: (Effective 12/01/2005)

2D.1405 Circumvention (Effective 04/01/1995)

2D.1407 Boilers and indirect-fired process heaters (Effective 06/01/2008)

2D.1408 Stationary combustion turbines (Effective 06/01/2008)

2D.1409 Stationary internal combustion engines (Effective 06/01/2008)

2D.1410 Emissions averaging (Effective 07/18/2002)

2D.1411 Seasonal fuel switching (Effective 06/01/2008)

2D.1412 Petition for alternative limitations (Effective 06/01/2008)

2D.1413 Sources not otherwise listed in this section (Effective 07/18/2002)

2D.1414 Tune-up requirements (Effective 07/18/2002)

2D.1415 Test methods and procedures (Effective 07/18/2002)

2D.1416 Emission allocations for utility companies (Effective 06/01/2004)

2D.1417 Emission allocations for large combustion sources (Effective 06/01/2004)

2D.1418 New electric generating units, large boilers, and large I/C engines (Effective 06/01/2004)

2D.1419 Nitrogen oxide budget trading program (Effective 06/01/2004)

2D.1420 Periodic review and reallocations (Effective 07/18/2002)

2D.1421 Allocations for new growth of major point sources (Effective 07/18/2002)

2D.1422 Compliance supplement pool credits (Effective 06/01/2004)

2D.1423 Large internal combustion engines (Effective 07/18/2002)

SECTION .1600—GENERAL CONFORMITY

2D.1601 Purpose, scope and applicability (Effective 04/01/1999)

2D.1602 Definitions (Effective 04/01/1995)

2D.1603 General conformity determination (Effective 07/01/1998)

SECTION .1900—OPEN BURNING

2D.1901 Open burning: Purpose: Scope (Effective 07/01/2007)

2D.1902 Definitions (Effective 07/01/2007)

2D.1903 Open burning without an air quality permit (Effective 07/01/2007)

2D.1904 Air curtain burners (Effective 07/01/2007)

2D.1905 Regional office locations (Effective 12/01/2005)

2D.1906 Delegation to county governments (Effective 12/01/2005)

2D.1907 Multiple violations arising from a single episode (Effective 07/01/2007)

SECTION .2000—TRANSPORTATION CONFORMITY

2D.2001 Purpose, scope and applicability (Effective 12/01/2005)

2D.2002 Definitions (Effective 04/01/1999)

2D.2003 Transportation conformity determination (Effective 04/01/1999)

2D.2004 Determining transportation-related emissions (Effective 04/01/1999)

2D.2005 Memorandum of agreement (Effective 04/01/1999)

SECTION .2100—RISK MANAGEMENT PROGRAM

2D.2101 Applicability (Effective 07/01/2000)

2D.2102 Definitions (Effective 07/01/2000)

2D.2103 Requirements (Effective 07/01/2000)

2D.2104 Implementation (Effective 07/01/2000)

SECTION .2200—SPECIAL ORDERS

2D.2201 Purpose (Effective 04/01/2004)

2D.2202 Definitions (Effective 04/01/2004)

2D.2203 Public notice (Effective 04/01/2004)

2D.2204 Final action on consent orders (Effective 04/01/2004)

2D.2205 Notification of right to contest special orders issued without (Effective 04/01/2004)

SECTION .2300—BANKING EMISSION REDUCTION CREDITS

2D.2301 Purpose (Effective 12/01/2005)

2D.2302 Definitions (Effective 12/01/2005)

2D.2303 Applicability and eligibility (Effective 07/01/2007)

2D.2304 Qualification of emission reduction credits (Effective 12/01/2005)

2D.2305 Creating and banking emission reduction credits (Effective 12/01/2005)

2D.2306 Duration of emission reduction credits (Effective 12/01/2005)

2D.2307 Use of emission reduction credits (Effective 12/01/2005)

2D.2308 Certificates and registry (Effective 12/01/2005)

2D.2309 Transferring emission reduction credits (Effective 12/01/2005)

2D.2310 Revocation and changes of emission reduction credits (Effective 12/01/2005)

2D.2311 Monitoring (Effective 12/01/2005)

SECTION .2400—CLEAN AIR INTERSTATE RULES

2D.2401 Purpose and applicability (Effective 05/01/2008)

2D.2402 Definitions (Effective 05/01/2008)

2D.2403 Nitrogen oxide emissions (Effective 05/01/2008)

2D.2404 Sulfur dioxide (Effective 05/01/2008)

2D.2405 Nitrogen oxide emissions during ozone season (Effective 05/01/2008)

2D.2406 Permitting (Effective 07/01/2006)

2D.2407 Monitoring, reporting, and recordkeeping (Effective 05/01/2008)

2D.2408 Trading program and banking (Effective 07/01/2006)

2D.2409 Designated representative (Effective 05/01/2008)

2D.2410 Computation of time (Effective 07/01/2006)

2D.2411 Opt-in provisions (Effective 07/01/2006)

2D.2412 New unit growth (Effective 05/01/2008)

2D.2413 Periodic review and reallocations (Effective 07/01/2006)

SECTION .2500—MERCURY RULES FOR ELECTRIC GENERATORS

2D.2501 Purpose and applicability (Effective 01/01/2007)

2D.2502 Definitions (Effective 01/01/2007)

2D.2503 Mercury emission (Effective 01/01/2007)

2D.2504 Permitting (Effective 01/01/2007)

2D.2505 Monitoring, Reporting, and Recordkeeping (Effective 01/01/2007)

2D.2506 Designated representative (Effective 01/01/2007)

2D.2507 Computation of time periods shall be determined as described in 40 CFR 60.4107 (Effective 01/01/2007)

2D.2508 New source growth (Effective 01/01/2007)

2D.2509 Periodic review and reallocations (Effective 01/01/2007)

2D.2510 Trading program and banking (Effective 01/01/2007)

2D.2511 Mercury emission limits (Effective 01/01/2007)

SECTION .2600—SOURCE TESTING

2D.2601 Purpose and scope (Effective 06/01/2008)

2D.2602 General provisions on test methods and procedures (Effective 07/01/2008)

2D.2603 Testing protocol (Effective 07/01/2008)

2D.2604 Number of test points (Effective 06/01/2008)

2D.2605 Velocity and volume flow rate (Effective 06/01/2008)

2D.2606 Molecular weight (Effective 06/01/2008)

2D.2607 Determination of moisture content (Effective 06/01/2008)

2D.2608 Number of runs and compliance determination (Effective 06/01/2008)

2D.2609 Particulate testing methods (Effective 06/01/2008)

2D.2610 Opacity (Effective 06/01/2008)

2D.2611 Sulfur dioxide testing methods (Effective 06/01/2008)

2D.2612 Nitrogen oxide testing methods (Effective 06/01/2008)

2D.2613 Volatile organic compound testing methods (Effective 06/01/2008)

2D.2614 Determination of VOC emission control system efficiency (Effective 06/01/2008)

2D.2615 Determination of leak tightness and vapor leaks (Effective 06/01/2008)

2D.2616 Fluorides (Effective 06/01/2008)

2D.2617 Total reduced sulfur (Effective 06/01/2008)

2D.2618 Mercury (Effective 06/01/2008)

2D.2619 Arsenic, beryllium, cadmium, hexavalent chromium (Effective 06/01/2008)

2D.2620 Dioxins and furans (Effective 06/01/2008)

2D.2621 Determination of fuel heat content using f-factor (Effective 06/01/2008)

SUBCHAPTER 02Q—AIR QUALITY PERMITS PROCEDURES

SECTION .0100—GENERAL PROVISIONS

2Q.0101 Required air quality permits (Effective 12/01/2005)

2Q.0102 Activities exempted from permit requirements (Effective 07/01/2007)

2Q.0103 Definitions (Effective 12/01/2005)

2Q.0104 Where to obtain and file permit applications (Effective 08/01/2002)

2Q.0105 Copies of referenced documents (Effective 12/01/2005)

2Q.0106 Incorporation by reference (Effective 07/01/1994)

2Q.0107 Confidential information (Effective 04/01/1999)

2Q.0108 Delegation of authority (Effective 07/01/1998)

2Q.0109 Compliance schedule for previously exempted activities (Effective 04/01/2001)

2Q.0110 Retention of permit at permitted facility (Effective 07/01/1994)

2Q.0111 Applicability determinations (Effective 07/01/1994)

2Q.0112 Applications requiring professional engineer seal (Effective 02/01/1995)

2Q.0113 Notification in areas without zoning (Effective 04/01/2004)

SECTION .0200—PERMIT FEES

2Q.0201 Applicability (Effective 07/01/1998)

2Q.0202 Definitions (Effective 04/01/2004)

2Q.0203 Permit and application fees (Effective 03/01/2008)

2Q.0204 Inflation adjustment (Effective 03/01/2008)

2Q.0205 Other adjustments (Effective 07/01/1994)

2Q.0206 Payment of fees (Effective 07/01/1994)

2Q.0207 Annual emissions reporting (Effective 07/01/2007)

SECTION .0300—CONSTRUCTION AND OPERATION PERMITS

2Q.0301 Applicability (Effective 12/01/2005)

2Q.0302 Facilities not likely to contravene demonstration (Effective 07/01/1998)

2Q.0303 Definitions (Effective 07/01/1994)

2Q.0304 Applications (Effective 12/01/2005)

2Q.0305 Application submittal content (Effective 12/01/2005)

2Q.0306 Permits requiring public participation (Effective 07/01/2007)

2Q.0307 Public participation procedures (Effective 07/01/1998)

2Q.0308 Final action on permit applications (Effective 07/01/1994)

2Q.0309 Termination, modification and revocation of permits (Effective 07/01/1999)

2Q.0310 Permitting of numerous similar facilities (Effective 07/01/1994)

2Q.0311 Permitting of facilities at multiple temporary sites (Effective 07/01/1996)

2Q.0312 Application processing schedule (Effective 07/01/1998)

2Q.0313 Expedited application processing schedule (Effective 07/01/1998)

2Q.0314 General permit requirements (Effective 07/01/1999)

2Q.0315 Synthetic minor facilities (Effective 07/01/1999)

2Q.0316 Administrative permit amendments (Effective 04/01/2001)

2Q.0317 Avoidance conditions (Effective 04/01/2001)

2Q.0401 Purpose and applicability (Effective 04/01/2001)

2Q.0402 Acid rain permitting procedures (Effective 04/01/1999)

SECTION .0500—TITLE V PROCEDURES

2Q.0501 Purpose of section and requirement for a permit (Effective 07/01/1998)

2Q.0502 Applicability (Effective 07/01/2000)

2Q.0503 Definitions (Effective 01/01/2007)

2Q.0504 Option for obtaining construction and operation permit (Effective 07/01/1994)

2Q.0505 Application submittal content (Effective 04/01/2004)

2Q.0507 Application (Effective 04/01/2004)

2Q.0508 Permit content (Effective 08/01/2008)

2Q.0509 Permitting of numerous similar facilities (Effective 07/01/1994)

2Q.0510 Permitting of facilities at multiple temporary sites (Effective 07/01/1994)

2Q.0512 Permit shield and application shield (Effective 07/01/1997)

2Q.0513 Permit renewal and expiration (Effective 07/01/1994)

2Q.0514 Administrative permit amendments (Effective 01/01/2007)

2Q.0515 Minor permit modifications (Effective 07/01/1997)

2Q.0516 Significant permit modification (Effective 07/01/1994)

2Q.0517 Reopening for cause (Effective 07/01/1997)

2Q.0518 Final action (Effective 02/01/1995)

2Q.0519 Termination, modification, revocation of permits (Effective 07/01/1994)

2Q.0520 Certification by responsible official (Effective 07/01/1994)

2Q.0521 Public participation (Effective 07/01/1998)

2Q.0522 Review by EPA and affected states (Effective 07/01/1994)

2Q.0523 Changes not requiring permit revisions (Effective 06/01/2008)

2Q.0524 Ownership change (Effective 07/01/1994)

2Q.0525 Application processing schedule (Effective 07/01/1998)

2Q.0526 112(j) case-by-case MACT procedures (Effective 02/01/2004)

2Q.0527 Expedited application processing schedule (Effective 07/01/1998)

2Q.0528 112(g) case-by-case MACTt procedures (Effective 07/01/1998)

SECTION .0600—TRANSPORTATION FACILITY PROCEDURES

2Q.0601 Purpose of section and requirement for a permit (Effective 07/01/1994)

2Q.0602 Definitions (Effective 07/01/1994)

2Q.0603 Applications (Effective 02/01/2005)

2Q.0604 Public participation (Effective 07/01/1994)

2Q.0605 Final action on permit applications (Effective 02/01/2005)

2Q.0606 Termination, modification and revocation of permits (Effective 07/01/1994)

2Q.0607 Application processing schedule (Effective 07/01/1998)

SECTION .0700—TOXIC AIR POLLUTANT PROCEDURES

2Q.0701 Applicability (Effective 02/01/2005)

2Q.0702 Exemptions (Effective 04/01/2005)

2Q.0703 Definitions (Effective 04/01/2001)

2Q.0704 New facilities (Effective 07/01/1998)

2Q.0705 Existing facilities and sic calls (Effective 07/01/1998)

2Q.0706 Modifications (Effective 12/01/2005)

2Q.0707 Previously permitted facilities (Effective 07/01/1998)

2Q.0708 Compliance schedule for previously unknown toxic air pollutant emissions (Effective 07/01/1998)

2Q.0709 Demonstrations (Effective 02/01/2005)

2Q.0710 Public notice and opportunity for public hearing (Effective 07/01/1998)

2Q.0711 Emission rates requiring a permit (Effective 06/01/2008)

2Q.0712 Calls by the director (Effective 07/01/1998)

2Q.0713 Pollutants with otherwise applicable federal standards or requirements (Effective 07/01/1998)

SECTION .0800—EXCLUSIONARY RULES

2Q.0801 Purpose and scope (Effective 04/01/1999)

2Q.0802 Gasoline service stations and dispensing facilities (Effective 08/01/1995)

2Q.0803 Coating, solvent cleaning, graphic arts operations (Effective 04/01/2001)

2Q.0804 Dry cleaning facilities (Effective 08/01/1995)

2Q.0805 Grain elevators (Effective 04/01/2001)

2Q.0806 Cotton gins (Effective 06/01/2004)

2Q.0807 Emergency generators (Effective 04/01/2001)

2Q.0808 Peak shaving generators (Effective 12/01/2005)

2Q.0809 Concrete batch plants (Effective 06/01/2004)

2Q.0810 Air curtain burners (Effective 12/01/2005)

SECTION .0900—PERMIT EXEMPTIONS

2Q.0901 Purpose and scope (Effective 01/01/2005)

2Q.0902 Portable crushers (Effective 01/01/2005)

2Q.0903 Emergency generators (Effective 06/01/2008)

* * * * *

[FR Doc. E8-26360 Filed 11-4-08; 8:45 am]

BILLING CODE 6560-50-P